FEDERAL COMMUNICATIONS COMMISSION

[OMB 3060-0999; FR ID 285459]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before April 18, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0999.

Title: Hearing Loss Compatible Wireless Handsets Section 20.19 and Hearing Aid Compatibility Act.

Form Numbers: FCC Form 655 and FCC Form 855.

Type of Review: Revision to the currently approved collection.

Respondents: Business or other for-profit entities.

Number of Respondents: 934 respondents; 934 responses.

Estimated Time per Response: 13.92 hours per response (average).

Frequency of Response: On occasion and annual reporting requirements, recordkeeping requirements, and third-party disclosure requirements.

Obligation to Respond: Required to obtain or retain benefits. Statutory authority for this information collection is contained in 47 U.S.C. 151, 154(i), 157, 160, 201, 202, 214, 301, 303, 308, 309(j), 310 and 610 of the Communications Act of 1934, as amended.

Total Annual Burden: 12,998 hours.

Total Annual Cost: No cost.

Needs and Uses: The Commission is requesting that the Office of Management and Budget (OMB) approve a revision to the Commission's currently approved information collection for OMB Control No. 3060-0999. This information collection relates to the Commission's Hearing Loss Compatible Wireless Handsets rules at section 20.19 of the Commission's rules. This revision is necessary to implement the final rules that the Commission adopted on October 17, 2024, in a Report and Order, WT Docket No. 23-388, FCC 24-112, that the Commission released on October 18, 2024. This Report and Order revised the heading of section 20.19 of the Commission's rules from “Hearing aid-compatible mobile handsets” to “Hearing loss compatible wireless handsets.” In addition, the revisions that the Commission adopted to section 20.19(b)(3)(iii), (f), (h), and (i)(4)-(5) constitute new or modified information collections subject to the Paperwork Reduction Act of 1995 (PRA), Public Law 104-13. These rules will become effective following OMB's completion of its review of these revised rules. Once OMB completes its review of these revisions, the Commission will publish a document in the Federal Register announcing the effective date of section 20.19(b)(3)(iii), (f), (h), and (i)(4)-(5).

The final rules that the Commission adopted require all wireless handset models to be hearing aid compatible. These revised rules ensure that consumers with hearing loss will have equal access to the same handset models as consumers without hearing loss. In order to ensure compliance with this 100% hearing aid compatibility requirement, the Commission adopted revised labeling, website posting, and certification requirements along with removing outdated and unnecessary information collection requirements. The removal of these outdated information collection requirements significantly reduces regulatory burden and cost for handset manufacturers and service providers.

The revised hearing aid compatibility rules include a requirement that a certain number of handset models that handset manufacturers and service providers offer for sale or use in the United States meet Bluetooth coupling requirements. This Bluetooth coupling requirement will benefit consumers by ensuring more universal connectivity between handset models and hearing aids, including over-the-counter hearing aids, and reduces the issue of certain handset models only being able to pair with certain hearing aids. In order to ensure compliance with this new Bluetooth coupling requirement, the Commission adopted a requirement that handset manufacturers submit a sworn declaration attesting to the handset model's compliance with these new Bluetooth coupling requirements. This certification requirement is contained in section 20.19(b)(3)(iii) and requires handset manufacturers to provide: (1) the specific Bluetooth coupling standard included in each handset model; (2) that the relevant handset model has been tested to ensure compliance with the designated Bluetooth coupling standard; and (3) after the transition to a non-proprietary Bluetooth requirement, that the included Bluetooth coupling technology is consistent with the Bluetooth functionality requirements. The Commission adopted this attestation requirement based on the recommendation of handset manufacturers who stated that adopting an attestation requirement is consistent with the Commission's equipment certification process.

In the Report and Order, the Commission revised its external printed package labeling requirements for handset models as well as requirements related to what information must be included within a handset model's packaging either in the form of a printed insert or a printed handset manual. The Commission is requiring that a handset model's external printed package label indicate whether the handset model includes Bluetooth coupling capabilities or telecoil coupling capabilities or both, and in the case of Bluetooth coupling which Bluetooth technology the handset model incorporates. The Commission is also requiring handset manufacturers and service providers to include information on the hearing aid compatibility settings of handset models and how consumers can turn these settings on and off. As part of these revisions, the Commission eliminated outdated labeling requirements which were no longer necessary and that might cause consumer confusion if retained. By eliminating these outdated requirements, the Commission reduced regulatory burden and cost to handset manufacturers and service providers. The revised labeling requirements are in section 20.19(f)(1) and (2) of the Commission's rules and these revised requirements ensure that consumers have the information that they need to make informed handset model purchasing decisions.

In addition to these revised labeling rules, the Commission determined to allow handset manufacturers and service providers to use digital labeling technology as an alternative to including a printed insert or printed handset manual in a handset model's packaging. Handset manufacturers and service providers choosing this option must maintain publicly accessible websites where consumers can find the required hearing aid compatibility information, and they must provide consumers with a Quick-Response (QR) code and the related website address where the required hearing aid compatibility information can be found. The Commission decided to allow the use of digital labeling technology at the request of handset manufacturers and service providers who argued that the use of digital labeling would reduce regulatory burden and cost for them. The use of digital labeling will also ensure that consumers have access to the most up-to-date handset model information. The Commission's new digital labeling rules are at section 20.19(f)(3) of the Commission's rules.

Along these same lines, the Commission revised its website posting requirements that apply to handset manufacturers and service providers who maintain publicly accessible websites. These companies must indicate on their publicly accessible websites which handset models that they offer for sale or use in the United States meet telecoil certification requirements and which meet Bluetooth coupling requirements. In addition, these companies must list a handset model's conversational gain if the handset model was certified as hearing aid-compatible using a standard that includes volume control requirements. The Commission also adopted point-of-contact requirements that require handset manufacturers and service providers to list contact information that consumers can use to ask knowledgeable company employees compatibility questions that they might have concerning the handset models that these companies offer for sale or use in the United States. Part of these revisions also included eliminating out-of-date website posting and record retention requirements that no longer served a useful purpose. The elimination of these outdated information collection requirements reduce regulatory burden and cost for handset manufacturers and service providers. The revised website posting requirements are at section 20.19(h) of the Commission's rules.

Finally, the Commission revised its annual certification requirements for handset manufacturers and service providers. After the 100% hearing aid compatibility transition period ends for handset manufacturers, these companies will no longer file FCC Form 655. Instead, handset manufacturers will start filing FCC Form 855 and service providers will continue to file this form. FCC Form 855 is a streamlined certification form that does not require the detail handset model information that FCC Form 655 collects. This change will significantly reduce regulatory burden and cost for handset manufacturers. In addition, the Commission is updating FCC Form 855 to ensure it collects only relevant information consistent with the Commission's 100% hearing aid compatibility requirement. These updates include removing outdated questions and streamlining the information that the form collects. The revised annual certification requirements are at section 20.19 (i)(4) and (5) of the Commission's rules.

Federal Communications Commission.
Marlene Dortch,
Secretary, Office of the Secretary.

[FR Doc. 2025-04645 Filed 3-18-25; 8:45 am]

BILLING CODE 6712-01-P